DEPARTMENT OF TRANSPORTATION

Federal Aviation Administration

14 CFR Part 71

[Airspace Docket No. 02-AGL-06]

Modification of Class E Airspace; St. Ignace, MI; Correction

AGENCY: Federal Aviation Administration (FAA), DOT.

ACTION: Direct final rule; correction.

SUMMARY: This action corrects an error contained in a direct final rule that was published in the Federal Register on Thursday, June 13, 2002 (67 FR 40592). The direct final rule modified Class E Airspace at St. Ignace, MI.

EFFECTIVE DATE: 0901 UTC, August 8, 2002.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 02-14980 published on Thursday, June 13, 2002 (67 FR 40592), modified Class E Airspace at St. Ignace, MI. The document should have “established” Class E airspace at St. Ignace, MI. This action corrects that error.

Accordingly, pursuant to the authority delegated to me, the modification of the Class E airspace area as published in the Federal Register Thursday, June 13, 2002 (67 FR 40592), (FR Doc. 02-14980), is corrected as follows:

1. On page 40592, Column 3;

a. Under the heading, correct “Modification of Class E Airspace; St. Ignace, MI” to read “Establishment of Class E Airspace; St. Ignace, MI”.

b. Under summary, line 1, correct “modifies” to read “establishes”.

c. Under summary, starting on line 10, correct “modifies existing controlled airspace” to read “establishes controlled airspace”.

2. On page 40593;

a. Column 1, under supplementary information, line 2, correct “modifies” to read “establishes”, and starting on line 5, eliminate the words “by modifying existing controlled airspace”.

§ 71.1 [Corrected]

b. Column 3, under the legal description, correct “AGL MI E5 St. Ignace, MI [Revised]” to read “AGL MI E5 St. Ignace, MI [New]”.

Issued in Des Plaines, Illinois on July 22, 2002.
Nancy B. Shelton,
Manager, Air Traffic Division, Great Lakes Region.

[FR Doc. 02-20894 Filed 8-15-02; 8:45 am]

BILLING CODE 4910-13-M